RAILROAD RETIREMENT BOARD

Agency Forms Submitted for OMB Review

SUMMARY: In accordance with the Paperwork Reduction Act of 1995 (44 U.S.C. Chapter 35), the Railroad Retirement Board (RRB) has submitted the following proposal(s) for the collection of information to the Office of Management and Budget for review and approval.

Summary of Proposal(s)

(1) Collection title: Application and Claim for RUIA Benefits Due at Death.

(2) Form(s) submitted: UI-63.

(3) OMB Number: 3220-0055.

(4) Expiration date of current OMB clearance: 12/31/2005.

(5) Type of request: Extension of a currently approved collection.

(6) Respondents: Individuals or households.

(7) Estimated annual number of respondents: 200.

(8) Total annual responses: 200.

(9) Total annual reporting hours: 23.

(10) Collection description: The collection obtains the information needed by the Railroad Retirement Board to pay, under section 2(g) of the RUIA, benefits under that Act accrued, but not paid because of the death of the employee.

Additional Information or Comments: Copies of the forms and supporting documents can be obtained from Charles Mierzwa, the agency clearance officer (312-751-3363) or Charles.Mierzwa@rrb.gov .

Comments regarding the information collection should be addressed to Ronald J. Hodapp, Railroad Retirement Board, 844 North Rush Street, Chicago, Illinois, 60611-2092 or Ronald.Hodapp@rrb.gov and to the OMB Desk Officer for the RRB, at the Office of Management and Budget, Room 10230, New Executive Office Building, Washington, DC 20503.

Charles Mierzwa,
Clearance Officer.

[FR Doc. 05-21821 Filed 11-1-05; 8:45 am]

BILLING CODE 7905-01-P